DEPARTMENT OF DEFENSE

Office of the Secretary

[Docket ID: DoD-2023-OS-0121]

Proposed Collection; Comment Request

AGENCY: Office of the Under Secretary of Defense for Personnel and Readiness (OUSD (P&R)), Department of Defense (DoD).

ACTION: 60-Day information collection notice.

SUMMARY: In compliance with the Paperwork Reduction Act of 1995, the Under Secretary of Defense for Personnel and Readiness announces a proposed data collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 16, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Office for Diversity, Equity, and Inclusion (ODEI), Department of Defense, 4000 Defense Pentagon, Suite 5D641, Washington, DC 20301-4000, ATTN: Dr. Samantha Daniel, or call 703-409-8612.

SUPPLEMENTARY INFORMATION:

Title; Associated Form; and OMB Number: Recruiting, Retaining, and Promoting Servicemembers who Identify as Hispanic or Latino/Latina; OMB Control Number: 0704-RPSS.

Needs and Uses: Over the last several years, the Department of Defense (DoD) has been concerned about the force's ethnic composition due to underrepresentation of Hispanic servicemembers in the senior grades across the Services. The National Defense Authorization Act for Fiscal Year 2022 (NDAA FY22), Section 572, also requires a study focused on the recruitment, retention, and promotion of servicemembers identifying as Hispanic. To address these items covered by the NDAA FY22, OUSD (P&R) Office for Diversity, Equity, and Inclusion (ODEI) has contracted with CNA to conduct a study to identify and address gaps in DoD's understanding of the recruitment, retention, and career progression of Hispanic servicemembers; evaluate past efforts and initiatives by DoD and the Services aimed at increasing Hispanic representation; and identify key lessons learned or best practices that should inform future initiatives. As part of this study, CNA will conduct Service-specific in-person and virtual focus groups with Active Duty Servicemembers in the Marine Corps, Army, Navy, Air Force, and Space Force. The voluntary focus groups will inquire about focus group participants' opinions and experiences based on their military careers. The purpose of the focus groups is to better understand the challenges that Servicemembers face in recruiting, retention, and promotion, especially for those who identify as Hispanic or Latino/Latina.

Additionally, Florida International University (FIU), a subcontractor to CNA on this study, will conduct a survey among eligible members of the general Hispanic population who are registered to vote in the United States, analyze the survey data, and produce a report detailing findings and recommendations for ODEI. The intent of the survey is to examine factors that influence the U.S. Hispanic population's perceptions of military service in the U.S. Armed Services and to identify the root causes for the notable disparity in the recruitment, retention, and promotion of Servicemembers who identify as Hispanic. Participation in the survey will be voluntary.

Affected Public: Individuals or households.

Recruiting, Retaining, and Promoting Servicemembers who Identify as Hispanic or Latino/Latina:

Number of Respondents: 650.

Responses per Respondent: 1.

Annual Responses: 650.

Average Burden per Response: 90 minutes.

Annual Burden Hours: 975.

Recruiting, Retaining, and Promoting Servicemembers who Identify as Hispanic or Latino/Latina (general population):

Number of Respondents: 1,500.

Responses per Respondent: 1.

Annual Responses: 1,500.

Average Burden per Response: 15 minutes.

Annual Burden Hours: 375.

Total:

Number of Respondents: 2,150.

Responses per Respondent: 1.

Annual Responses: 2,150.

Average Burden per Response: 38 minutes.

Annual Burden Hours: 1,350.

Frequency: As required.

Dated: December 13, 2023.
Aaron T. Siegel,
Alternate OSD Federal Register Liaison Officer, Department of Defense.

[FR Doc. 2023-27721 Filed 12-15-23; 8:45 am]

BILLING CODE 6001-FR-P